DEPARTMENT OF THE INTERIOR

Office of the Secretary

Renewal of the Trinity River Adaptive Management Working Group

AGENCY: Office of the Secretary, Interior.

ACTION: Notice.

SUMMARY: The Secretary of the Interior (Secretary), after consultation with the General Services Administration, has renewed the Trinity River Adaptive Management Working Group (Working Group) for 2 years. The Working Group provides recommendations on all aspects of the implementation of the Trinity River Restoration Program and affords stakeholders the opportunity to give policy, management, and technical input concerning Trinity River restoration efforts.

FOR FURTHER INFORMATION CONTACT: Nancy Finley, Fish and Wildlife Service, 1655 Heindon Road, Arcata, CA 95521; 707-822-7201.

SUPPLEMENTARY INFORMATION: The Working Group conducts its operations in accordance with the provisions of the Federal Advisory Committee Act (5 U.S.C. Appendix). It reports to the Trinity River Management Council (TMC) and functions solely as an advisory body. The TMC reports to the Secretary through the Mid-Pacific Regional Director of the Bureau of Reclamation and the Pacific Southwest Regional Director for the Fish and Wildlife Service. The Working Group provides recommendations and advice to the TMC on: (1) The effectiveness of management actions in achieving restoration goals and alternative hypotheses (methods and strategies) for study, (2) the priority for restoration projects, (3) funding priorities, and (4) other components of the Trinity River Restoration Program.

Working Group members represent the varied interests associated with the Trinity River Restoration Program. Members are selected from, but not limited to, Trinity County residents; recreational and commercial fishermen; commercial and recreational boaters; power/utility companies; agricultural water users; private and commercial timber producers; ranchers and people with grazing rights/permits; tribes; environmental organizations; and Federal, State, and local agencies with responsibilities in the Trinity River Basin. Members must be senior representatives of their respective constituent groups with knowledge of the Trinity River Restoration Program, including the Adaptive Environmental Assessment and Management Program.

We have filed a copy of the Working Group's charter with the Committee Management Secretariat, General Services Administration; the Committee on Environment and Public Works, United States Senate; the Committee on Natural Resources, United States House of Representatives; and the Library of Congress.

Certification

I hereby certify that the Trinity River Adaptive Management Working Group is necessary and is in the public interest in connection with the performance of duties imposed on the Department of the Interior by Public Laws 84-386 and 96-335 (Trinity River Stream Rectification Act), 98-541 and 104-143 (Trinity River Basin Fish and Wildlife Management Act of 1984), and 102-575 (Central Valley Project Improvement Act). The Working Group will assist the Department of the Interior by providing advice and recommendations on all aspects of implementation of the Trinity River Restoration Program.

Dated: January 8, 2013.
Ken Salazar,
Secretary of the Interior.

[FR Doc. 2013-01645 Filed 1-25-13; 8:45 am]

BILLING CODE 4310-55-P